DEPARTMENT OF DEFENSE

Office of the Secretary

[Docket ID: DOD-2016-HA-0077]

Privacy Act of 1974; System of Records

AGENCY: Defense Health Agency, DoD.

ACTION: Notice to alter a system of records.

SUMMARY: The Defense Health Agency proposes to alter an existing system of records, EDHA 12, entitled “Third Party Collection System.” This system is used to provide the Military Services medical billing, collections, and reporting processes for users at multiple locations, and to serve as the single source of financial information for the accounting of uniform business office accounts receivable.

DATES: Comments will be accepted on or before August 15, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Alexandria, VA 22350-1700. Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by phone at (703) 275-6363.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Division Web site at http://dpcld.defense.gov/.

The proposed system report, as required by 5 U.S.C. 552a(r) of the Privacy Act of 1974, as amended, was submitted on June 23, 2016, to the House Committee on Oversight and Government Reform, the Senate Committee on Governmental Affairs, and the Office of Management and Budget (OMB) pursuant to paragraph 4 of Appendix I to OMB Circular No. A-130, “Federal Agency Responsibilities for Maintaining Records About Individuals,” revised November 28, 2000 (December 12, 2000 65 FR 77677).

Dated: July 11, 2016.
Aaron Siegel,
Alternate OSD Federal Register Liaison Officer, Department of Defense.

EDHA 12

System name:

Third Party Collection System (November 18, 2013, 78 FR 69076)

Changes

* * * * *

System location:

Delete entry and replace with “Primary: General Dynamics Information Technology, Corporate Office Properties Trust (COPT) Data Center Solutions DC-6, 9651 Hornbaker Road, Manassas, VA 20109-3976.

Alternate: General Dynamics Information Technology, 11400 Westmoor Circle, Westminster, CO 80021-2735.

For a complete listing of all facility addresses write to the system manager.”

Categories of individuals covered by the system:

Delete entry and replace with “Members of the Uniformed Services (including Reserve and National Guard personnel) and their dependents and retired military members and their dependents who receive or have received health services approved by DoD; contractors participating in military deployments or related operations who receive or have received medical or dental care at a military treatment facility (MTF); DoD civilian employees (to include non-appropriated fund employees), and other individuals who receive or have received medical or dental care at an MTF.”

Categories of records in the system:

Delete entry and replace with “Individual Data: Patient name, DoD Identification Number (DoD ID Number), Social Security Number (SSN) (or foreign identification), citizenship, whether treatment was outpatient or inpatient, outpatient visit date and time, date of birth, address, email address, home and cell phone telephone numbers, gender, marital status, emergency contact information, driver's license number, family member prefix, and relationship to policy holder; sponsor or insurance policy holder name, SSN or DoD ID Number, and date of birth; other covered family member name(s), SSN, and date of birth; and, if applicable, Medicare and Medicaid coverage data.

Insurance Policy Information Data: Policy number or identification, card holder identification, group number, group name, enrollment plan/code, policy effective date, policy category, policy end date, insurance company name, address, and telephone number, insurance type, policy holder, and whether policy holder is insured through their employer; pharmacy insurance company name, address, and phone number, and pharmacy policy number, BIN number, and patient identification number.

Employer Information data: Employer name, address, and telephone number.

Billing Information Data: Bill type (MTF, clinic, pharmacy, laboratory/radiology, or ambulance), name and location of MTF, whether treatment was outpatient or inpatient, outpatient visit date and time, inpatient admission and discharge dates and time, patient identification number, patient name, provider code/description, office visit code description, Medical Expense and Performance Reporting System code/description, diagnosis code/description, billing amount, user who created the bill, date bill was created, status of bill, and source of billing data.

Accounting Information Data: Control number, transaction code, debit amount, credit amount, check number, batch posting number, balance, patient identification number, patient name, encounter date, comments, entry date, and follow-up date.

Insurance Company Data: Tables for insurance company, policy, provider, fees, codes, rates, and procedure maintenance.”

Authority for the maintenance of the system:

Delete entry and replace with “10 U.S.C. 1079b, Procedures for charging fees for care provided to civilians; retention and use of fees collected; 10 U.S.C. 1095, Health care services incurred on behalf of covered beneficiaries: Collection from third-party payers; 42 U.S.C. Chapter 32, Third Party Liability For Hospital and Medical Care; 28 CFR part 43, Recovery of Costs of Hospital and Medical Care and Treatment Furnished by the United States; 32 CFR part 199, Civilian Health and Medical Program for the Uniformed Services (CHAMPUS); 32 CFR part 220, Collection from Third Party Payers of Reasonable Charges for Healthcare Services; DoD Instruction 6015.23, Foreign Military Personnel Care and Uniform Business Offices in Military Treatment Facilities (MTFs); and E.O. 9397 (SSN), as amended.”

Purpose(s):

Delete entry and replace with “To provide the Military Services medical billing, collections, and reporting processes for users at multiple locations, and to serve as the single source of financial information for the accounting of uniform business office accounts receivable.

To assist the Defense Finance Accounting Service (DFAS) in collecting delinquent debts.”

Routine uses of records maintained in the system, including categories of users and the purposes of such uses:

Delete entry and replace with “In addition to those disclosures generally permitted under 5 U.S.C. 552a(b) of the Privacy Act, as amended, these records may specifically be disclosed outside the DoD as a routine use pursuant to 5 U.S.C. 552a(b)(3) as follows:

To interface with all commercial insurance carriers and parties against whom recovery has been sought by the DoD Military Health System (MHS), as well as all parties involved in support of the collection activities for health care approved by the DoD.

To the Departments of Treasury, Veterans Affairs, and Homeland Security in order to obtain reimbursement to the DoD for medical services provided by the MHS to beneficiaries and workforce members of such Departments.

To other persons or organizations, including other health insurers, Medicare, and Medicaid, who may be liable for payment for health care and medical services provided to an individual by the MHS.

To data clearinghouses for the purpose of converting the medical and pharmacy claims to an industry-wide format then forwarding to insurance companies (and other payers) electronically for payment.

Except as stipulated in NOTE 1 and NOTE 2 below, the DoD Blanket Routine Uses set forth at the beginning of the Defense Privacy and Civil Liberties Division compilation of systems of records notices may apply to this system. The complete list of DoD Blanket Routine Uses can be found online at: http://dpcld.defense.gov/Privacy/SORNsIndex/BlanketRoutineUses.aspx

NOTE 1: This system of records contains individually identifiable health information. The DoD Health Information Privacy Regulation (DoD 6025.18-R) or any successor DoD issuances implementing the Health Insurance Portability and Accountability Act of 1996 (HIPAA) and 45 CFR parts 160 and 164, Health and Human Services, General Administrative Requirements and Security & Privacy, respectively, applies to most such health information. DoD 6025.18-R or a successor issuance may place additional procedural requirements on the uses and disclosures of such information beyond those found in the Privacy Act of 1974, as amended, or mentioned in this system of records notice.

NOTE 2: Records of identity, diagnosis, prognosis or treatment information of any patient maintained in connection with the performance of any program or activity relating to substance abuse education, prevention, training, treatment, rehabilitation, or research, which is conducted, regulated, or directly or indirectly assisted by a department or agency of the United States will be treated as confidential and disclosed only for the purposes and under the circumstances expressly authorized under 42 U.S.C. 290dd-2.”

Policies and practices for storing, retrieving, accessing, retaining, and disposing of records in the system:

Storage:

Delete entry and replace with “Paper records and electronic storage media.”

Retrievability:

Delete entry and replace with “Patient name, SSN (or foreign identification) or DoD ID Number, insurance company name, date range, sponsor name, sponsor SSN or DoD ID Number, or patient identification number.”

Safeguards:

Delete entry and replace with “Physical access to the information technology (IT) system location is restricted by visitor escort, access rosters, and photo identification. Adequate locks are on doors and server components are secured in a locked computer room with limited access. Each end user device is protected within a locked storage container, room, or building outside of normal business hours. All visitors and other persons that require access to facilities that house servers and other network devices supporting the IT system that do not have authorization for access are escorted by appropriately screened/cleared personnel at all times.

Access to the IT system is role-based and a valid user account is required. The system is Public Key Infrastructure-enforced with two-factor authentication and can be accessed by use of Common Access Card and personal identification number. Authorized personnel must have appropriate Information Assurance training, HIPAA training, and Privacy Act training.

Paper records are protected by the security and policies in place at the locations where they are held. All locations are within or under contract with the MHS, and require personnel to undergo appropriate training.”

Retention and disposal:

Delete entry and replace with “Close out at end of the calendar year in which received. Destroy 10 year(s) after cut off.”

System manager(s) and address:

Delete entry and replace with “Program Manager, DHA Solutions Delivery Division, Clinical Support, Fort Sam Houston, San Antonio, TX 78234-2639.”

Notification procedure:

Delete entry and replace with “Individuals seeking to determine whether information about themselves is contained in this system of records should address written inquiries to the Chief, Freedom of Information Act (FOIA) Service Center, Defense Health Agency Privacy and Civil Liberties Office, 7700 Arlington Boulevard, Suite 5101, Falls Church, VA 22042-5101.

Requests should contain the name and number of this system of records notice, the individual's full name, current address, home or cell phone telephone number, SSN or DoD ID Number, and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

If requesting information about a minor or legally incompetent person, the request must be made by the custodial parent, legal guardian, or person with legal authority to make decisions on behalf of the individual. Written proof of that status may be required before the existence of any information will be confirmed.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Requests should contain the name and number of this system of records notice, the individual's full name, current address, home or cell phone telephone number, SSN or DoD ID Number, and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

If requesting information about a minor or legally incompetent person, the request must be made by the custodial parent, legal guardian or person with legal authority to make decisions on behalf of the individual. Written proof of that status may be required before any records will be provided.”

Contesting record procedures:

Delete entry and replace with “The Office of the Secretary of Defense (OSD) rules for accessing records, for contesting contents and appealing initial agency determinations are published in OSD Administrative Instruction 81, 32 CFR part 311, or may be obtained from the system manager.”

Record source categories:

Delete entry and replace with “The Composite Health Care System (CHCS) and the individual.”

* * * * *

[FR Doc. 2016-16726 Filed 7-14-16; 8:45 am]

BILLING CODE 5001-06-P